DEPARTMENT OF TRANSPORTATION

Federal Railroad Administration

Notification of Modification of Information Collection Requirements; Comment Request

AGENCY: Federal Railroad Administration, DOT.

ACTION: Notice.

SUMMARY: In accordance with the Paperwork Reduction Act of 1995 and its implementing regulations, the Federal Railroad Administration (FRA) hereby announces that it intends to modify existing instructions of three currently approved information collection reporting forms. The revised instructions will be added to the next edition of the FRA Guide for Preparing Accident/Incident Reports. For a projected five-year period, FRA seeks to gather additional data that is needed in order to enhance rail safety. However, only the instructions will be revised. FRA contemplates no change to the data elements of any of the three applicable reporting forms, and believes there will be no change in the number of responses. FRA seeks to capture information concerning “remote control devices” that is not presently provided by the railroads in order to further reduce the number and severity of railroad accidents/incidents, and accompanying casualties to railroad workers and members of the public. FRA estimates that there will be no change in the burden time per response for each form; that there will be no change in the total burden hours for the three relevant reporting forms; and that there will be no change in the total burden hours for the entire currently approved information collection. FRA is working with members of the railroad industry and members of railroad labor unions in this partnership effort. FRA has met with representatives of the railroad industry and railroad labor unions to explain the type of data needed and to solicit their views. FRA will continue to consult with them regarding final changes to the instructions to be included in the next Guide. FRA includes a copy of the modified instructions with this notice.

DATES: Comments are requested no later than February 20, 2001.

ADDRESSES: Submit written comments on any or all of the following proposed activities by mail to either: Robert Brogan, Office of Safety, Planning and Evaluation Division, RRS-21, Federal Railroad Administration, 1120 Vermont Ave., NW., Mail Stop 17, Washington, DC 20590, (telephone: (202)-493-6292), or Nancy Friedman, Trial Attorney, Office of Chief Counsel, Federal Railroad Administration, 1120 Vermont Ave., NW., Mail Stop 10, Washington, DC 20590, (telephone: (202)-493-6034). (These telephone numbers are not toll-free.) Commenters requesting FRA to acknowledge receipt of their respective comments must include a self-addressed stamped postcard stating, “Comments on OMB control number 2130-0500.” Alternatively, comments may be transmitted via facsimile to (202) 493-6265 or (202) 493-6068, or E-mail to Robert Brogan at robert.brogan@ fra.dot.gov, or to Nancy Friedman at nancy.friedman@ fra.dot.gov. Please refer to the assigned OMB control number in any correspondence submitted. FRA will summarize comments received in response to this notice in a subsequent notice and include them in its currently approved information collection submission, as necessary.

FOR FURTHER INFORMATION CONTACT: Robert Brogan, Office of Planning and Evaluation Division, RRS-21, FRA, 1120 Vermont Ave., NW., Mail Stop 17, Washington, DC 20590 (telephone: (202) 493-6292) or Nancy Friedman, Trial Attorney, Office of Chief Counsel, FRA, 1120 Vermont Ave., NW., Mail Stop 10, Washington, DC 20590 (telephone: (202) 493-6034). (These telephone numbers are not toll-free.)

SUPPLEMENTARY INFORMATION: The Paperwork Reduction Act of 1995 (PRA), Pub. L. No. 104-13, § 2, 109 Stat. 163 (1995) (codified as revised at 44 U.S.C. §§ 3501-3520), and its implementing regulations, 5 CFR part 1320, require Federal agencies to provide 60-days notice to the public for comment on information collection activities before seeking approval for reinstatement or renewal by OMB. 44 U.S.C. § 3506(c)(2)(A); 5 CFR §§ 1320.8(d)(1), 1320.10(e)(1), 1320.12(a). Specifically, FRA invites interested respondents to comment on the following summary of proposed information collection activities regarding (i) whether the information collection activities are necessary for FRA to properly execute its functions, including whether the activities will have practical utility; (ii) the accuracy of FRA's estimates of the burden of the information collection activities, including the validity of the methodology and assumptions used to determine the estimates; (iii) ways for FRA to enhance the quality, utility, and clarity of the information being collected; and (iv) ways for FRA to minimize the burden of information collection activities on the public by automated, electronic, mechanical, or other technological collection techniques or other forms of information technology (e.g., permitting electronic submission of responses). See 44 U.S.C. § 3506(c)(2)(A)(i)-(iv); 5 CFR 1320.8(d)(1)(i)-(iv). FRA believes that soliciting public comment will promote its efforts to reduce the administrative and paperwork burdens associated with the collection of information mandated by Federal regulations. In summary, FRA reasons that comments received will advance three objectives: (i) Reduce reporting burdens; (ii) ensure that it organizes information collection requirements in a “user friendly” format to improve the use of such information; and (iii) accurately assess the resources expended to retrieve and produce information requested. See 44 U.S.C. § 3501.

Below is a brief summary of currently approved information collection activities that FRA seeks to slightly modify. FRA requests continuation of the current approval for the reasons listed in the summary above.

Title: Accident/Incident Reporting and Recordkeeping.

OMB Control Number: 2130-0500.

Abstract: The collection of information is due to accident reporting regulations set forth in 49 CFR part 225 which require railroads to submit monthly reports summarizing collisions, derailments, and certain other accident/incidents involving damages above a periodically revised dollar threshold, as well as certain injuries to passengers, employees, and other persons on railroad property (including those which are railroad work-related). Because the reporting requirements and information needed regarding each category are unique, a different form is used for each category. FRA is modifying the instructions for two of the three referenced agency forms to request that the “Special Study Block” (SSB) of each form be used to capture (with coded letters) information pertaining to accidents/incidents which involve “remote control” devices. The third form will capture the required data with an annotation in the narrative portion of the form.

FRA publishes these instructions as provided for in the final section pertaining to “Special Study Blocks” included in the preamble to FRA's final rule on Railroad Accident Reporting (49 CFR part 225). Specifically, the Final Decision section of “Special Study Blocks” in the preamble to that final rule provides that: “The Rail Equipment Accident/Incident Report (Form FRA F 6180.54) contains two SSBs in block “49.” As the need arises, FRA will notify the railroads in writing, or if appropriate, through publication in the Federal Register, of the purpose and the type of information that is to be collected. FRA will be as specific as possible in order to minimize both costs and the amount of time associated with the collection of this new information. Each SSB has 20 characters in order to standardize the data structure for computer files. FRA believes the SSBs will prove extremely valuable in collecting information to help FRA identify and evaluate issues of safety concern as well as other non-safety issues as the need arises.

FRA anticipates that use of one or more SSBs will be occasional, rather than continuous. As appropriate, FRA will consult with the Railroad Safety Advisory Committee (RSAC) before formulating the respective information collections.” (see 61 FR 30947; June 18, 1996).

Form Number(s): FRA F 6180.54, FRA F 6180.55a, FRA F 6180.57.

Affected Public: Businesses.

Respondent Universe: 685 railroads.

Frequency of Submission: On occasion.

Total Responses: 18,500 (for 3 listed forms); 75,352 (for entire information collection).

Estimated Total Annual Burden: 28,900 hours (for 3 listed forms); 63,058 hours (for entire information collection).

Status: Continuation of Current Approval.

Pursuant to 44 U.S.C. 3507(a) and 5 CFR 1320.5(b), 1320.8(b)(3)(vi), FRA informs all interested parties that it may not conduct or sponsor, and a respondent is not required to respond to, a collection of information unless it displays a currently valid OMB control number.

Authority: 44 U.S.C. §§ 3501-3520.

Kathy A. Weiner,
Director, Office of Information Technology and Support Systems, Federal Railroad Administration.

Attachment to Federal Register Notice

Listed below are proposed changes to instructions for FRA Forms F 6180.54, 6180.55a, and 6180.57 to be included in the next edition of FRA's Guide to Preparing Accident/Incident Reports. The changes specify the type of information to be captured about remote controlled devices through the use of coded letters in the “Special Study Blocks.”

General Definition

Remote Control Transmitter/Receiver—A term used to describe the critical components involved in operating on-track equipment by radio signals transmitted from a portable transmitter to a receiver located on board the on-track equipment. The device will be capable of transmitting from outside of the operating compartment of a designated and equipped unit of on-track rail equipment and will transmit coded command signals which will operate, at a minimum, the equipment's speed, direction, braking and shutdown systems.

Specific Code and Definition for

Rail Equipment accident/incident (Form 6180.54)

Remotely Controlled Operation—A movement of on-track rail equipment that is controlled by an employee or contractor using a remote transmitter/receiver designed to control the locomotive, maintenance machine, or other type of self-propelled on-track rail equipment. (Code = R)

When, on Form FRA F 6180.54, the Special Study Block (49) is annotated with the letter “R”, it will indicate that remotely controlled operations were in effect.

When, on Form FRA F 6180.54, the Special Study Block (49) is left blank, it will indicate conventional or non-remote equipment movement.

Note: Entries in Block 34 relate to the number of locomotive units and their placement in a consist or train. Notations in Block 34 are separate and apart from data being collected in Special Study Block 49.

Specific Code and Definition for

Highway-Rail Grade Crossing accident/incident (Form 6180.57)

Remotely Controlled Operation—A movement of on-track rail equipment that is controlled by an employee or contractor using a remote transmitter/receiver designed to control the locomotive, maintenance machine, or other type of self-propelled on-track rail equipment. (Code = R)

When, on Form FRA F 6180.57, the Special Study Block (53a) is annotated with the letter “R”, it will indicate that remotely controlled operations were in effect.

When, on Form FRA F 6180.57, the Special Study Block (53a) is left blank, it will indicate conventional or non-remote equipment was involved.

Specific Codes and Definitions for:

Railroad Casualties to persons: Injury Illness Summary (Form 6180.55a)

Remotely Controlled Operation—A movement of on-track rail equipment that is controlled by an employee or contractor using a remote transmitter/receiver designed to control the locomotive, maintenance machine, or other type of self-propelled on-track rail equipment. (Code = R)

Carrying—When an injured/ill employee or contractor, has on his or her person a remote transmitter capable of controlling the locomotive, maintenance machine, or other type of self-propelled on-track rail equipment. (Code = C)

Not Carrying—When any person is injured or becomes ill during a remotely controlled operation, and the injured/ill person is not carrying a remote transmitter capable of controlling a locomotive, maintenance machine, or other type of self-propelled on-track rail equipment. (Code = N)

Operating—When an injured/ill employee or contractor, at the time of the accident/incident, has on his or her person a remote transmitter capable of controlling a locomotive or maintenance machine, and other type of self-propelled on-track rail equipment. (Code = O)

Not Operating—When an injured/ill employee, at the time of the accident/incident, has on his person a remote transmitter capable of controlling a locomotive or maintenance machine, and is not operating the remote transmitter. (Code = N)

Below are all possible valid coding scenarios for casualty reporting involving Remote Control Operations.

When used, any three (3) letter combination must be preceded by an asterisk (*) and must be shown as the first four (4) characters in the reporting area headed “narrative”.

RCO = Remotely Controlled Operation, injured/ill employee or contractor is carrying remotely controlled transmitter, and is operating the remotely controlled movement at the time of accident/incident.

RCN = Remotely Controlled Operation, injured/ill employee or contractor is carrying remotely controlled transmitter, and is NOT operating the remotely controlled movement at the time of accident/incident.

RNN = Remotely Controlled Operation, Injured/Ill person is NOT carrying remotely controlled transmitter, and is NOT operating the remotely controlled movement at the time of accident/incident.

When, on Form FRA F 6180.55a, the reporting area headed “narrative” is not annotated with any three (3) letter combination (shown above) preceded by an asterisk (*) and shown as the first four (4) characters in the “narrative” section, it will indicate that remotely controlled operations were not in effect.

Addition to Appendix F: Tools, Machinery, Appliances, Structures, Surfaces (etc.) Circumstance Codes:

Add: “34-Remote Control Transmission Unit”

[FR Doc. 00-32415 Filed 12-19-00; 8:45 am]

BILLING CODE 4910-06-P